FEDERAL COMMUNICATIONS COMMISSION

[CC Docket No. 95-116; CCB/CPD File No. 01-16; DA 06-1448]

Citizens Communications Company Petition for Waiver of Section 52.33(A) of the Commission's Number Portability Rules

AGENCY: Federal Communications Commission.

ACTION: Notice, termination of proceeding.

SUMMARY: This document provides notice of final termination of the petition for waiver of the Commission's number portability rules. No oppositions to the prior notice of termination were received; therefore, interested parties are hereby notified that this proceeding has been terminated.

DATES: This proceeding was terminated effective June 30, 2006.

FOR FURTHER INFORMATION CONTACT: Lynne Hewitt Engledow, Wireline Competition Bureau, Pricing Policy Division, (202) 418-1520.

SUPPLEMENTARY INFORMATION: On May 19, 2006, the Wireline Competition Bureau's Pricing Policy Division issued a Public Notice in the above-listed proceeding stating that the proceeding would be terminated effective 30 days after publication of the Public Notice in the Federal Register, unless the Bureau received oppositions to the termination before that date. The notice was published in the Federal Register on May 31, 2006. See 71 FR 30924-30925, May 31, 2006. The Bureau did not receive any oppositions to the termination of this proceeding within 30 days of Federal Register publication of the notice; therefore, the above-listed proceeding was terminated as of June 30, 2006.

Federal Communications Commission.
Thomas J. Navin,
Chief, Wireline Competition Bureau.

[FR Doc. E6-12534 Filed 8-8-06; 8:45 am]

BILLING CODE 6712-01-P